DELAWARE RIVER BASIN COMMISSION

Notice of Methodology for the Delaware River and Bay Integrated List Water Quality Assessment

AGENCY: Delaware River Basin Commission.

ACTION: Notice.

SUMMARY: Notice is hereby given that the methodology, including data sets, to be used in developing the 2008 Delaware River and Bay Integrated List Water Quality Assessment is available for review and comment.

DATES: Comments must be received by close of business on January 28, 2008.

ADDRESSES: Comments will be accepted via e-mail to john.yagecic@drbc.state.nj.us; via fax to 609-883-9522; by U.S. Mail to DRBC, Attn: Integrated Assessment 2008, P.O. Box 7360, West Trenton, NJ 08628-0360; via private carrier to DRBC, Attn: Integrated Assessment 2008, 25 State Police Drive, West Trenton, NJ 08628-0360; or by hand. All submissions should have the phrase “Integrated Assessment 2008” in the subject line and should include the name, address (street address optional) and affiliation, if any, of the commenter.

FOR FURTHER INFORMATION CONTACT: Mr. John Yagecic, Supervisor, Standards and Assessment Section, DRBC Modeling, Monitoring and Assessment Branch, via e-mail to john.yagecic@drbc.state.nj.us or by telephone to 609-883-9500, ext. 271.

SUPPLEMENTARY INFORMATION: The Delaware River Basin Commission (“DRBC” or “Commission”) is an interstate and federal compact agency that was created in 1961 by concurrent legislation of the States of Delaware, New Jersey, and New York, the Commonwealth of Pennsylvania and the United States Government for purpose of jointly managing the water resources of the Delaware River Basin.

DRBC currently is compiling data for the 2008 Delaware River and Bay Integrated List Water Quality Assessment (“2008 Assessment”) required by the federal Clean Water Act (CWA). The 2008 Assessment will report the extent to which waters of the Delaware River and Bay are attaining designated uses in accordance with Section 305(b) of the CWA and will identify impaired waters, which consist of waters that do not meet surface water quality standards.

The assessment methodology to be used to develop the 2008 Assessment will closely track the methodology used for the most recent assessment, completed in 2006. The 2006 assessment is available for review at http://www.state.nj.us/drbc/06IntegratedList/index.htm.

In the 2008 Assessment DRBC proposes to reduce the number of assessment units from the number used in 2006 by consolidating the units into DRBC's Water Quality Management Zones 1A, 1B, 1C, 1D, 1E, 2, 3, 4, and 5, the boundaries of which are defined in DRBC's Water Quality Regulations (18 CFR Part 410), available on the Web at http://www.state.nj.us/drbc/regs/WQRegs_092607.pdf. The 2008 Assessment will continue, however, to include subunits within Zone 6 that are defined in part by shellfish management directives issued by the states of Delaware and New Jersey.

Dated: January 8, 2008.
Pamela M. Bush,
Commission Secretary.

[FR Doc. E8-453 Filed 1-11-08; 8:45 am]

BILLING CODE 6360-01-P